DEPARTMENT OF COMMERCE

International Trade Administration

[A-570-904]

Notice of Antidumping Duty Order: Certain Activated Carbon From the People's Republic of China

AGENCY: Import Administration, International Trade Administration, Department of Commerce.

SUMMARY: Based on affirmative final determinations by the Department of Commerce (“the Department”) and the International Trade Commission (“ITC”), the Department is issuing an antidumping duty order on certain activated carbon from the People's Republic of China (“PRC”). On April 16, 2007, the ITC notified the Department of its affirmative determination of material injury to a U.S. industry (Certain Activated Carbon from China, Investigation No. 731-TA-1103 (Final), Publication 3913, April 2007).

EFFECTIVE DATE: April 27, 2007.

FOR FURTHER INFORMATION CONTACT: Catherine Bertrand, AD/CVD Operations, Office 9, Import Administration, International Trade Administration, U.S. Department of Commerce, 14th Street and Constitution Avenue, NW., Washington, DC 20230; telephone: (202) 482-3207.

SUPPLEMENTARY INFORMATION:

Background

In accordance with section 735(d) and 777(i)(1) of the Tariff Act of 1930, as amended (“the Act”), on March 2, 2007, the Department published the Final Determination of Sales at Less Than Fair Value: Certain Activated Carbon from the People's Republic of China, 72 FR 9508 (March 2, 2007) (“Final Determination”). An amended final determination was published on March 30, 2007. See Notice of Amended Final Determination of Sales at Less Than Fair Value: Certain Activated Carbon from the People's Republic of China, 72 FR 15099, (March 30, 2007).

Scope of Order

The merchandise subject to this order is certain activated carbon. Certain activated carbon is a powdered, granular, or pelletized carbon product obtained by “activating” with heat and steam various materials containing carbon, including but not limited to coal (including bituminous, lignite, and anthracite), wood, coconut shells, olive stones, and peat. The thermal and steam treatments remove organic materials and create an internal pore structure in the carbon material. The producer can also use carbon dioxide gas (CO2) in place of steam in this process. The vast majority of the internal porosity developed during the high temperature steam (or CO2 gas) activated process is a direct result of oxidation of a portion of the solid carbon atoms in the raw material, converting them into a gaseous form of carbon.

The scope of this order covers all forms of activated carbon that are activated by steam or CO2, regardless of the raw material, grade, mixture, additives, further washing or post-activation chemical treatment (chemical or water washing, chemical impregnation or other treatment), or product form. Unless specifically excluded, the scope of this order covers all physical forms of certain activated carbon, including powdered activated carbon (“PAC”), granular activated carbon (“GAC”), and pelletized activated carbon.

Excluded from the scope of the order are chemically activated carbons. The carbon-based raw material used in the chemical activation process is treated with a strong chemical agent, including but not limited to phosphoric acid, zinc chloride sulfuric acid or potassium hydroxide, that dehydrates molecules in the raw material, and results in the formation of water that is removed from the raw material by moderate heat treatment. The activated carbon created by chemical activation has internal porosity developed primarily due to the action of the chemical dehydration agent. Chemically activated carbons are typically used to activate raw materials with a lignocellulosic component such as cellulose, including wood, sawdust, paper mill waste and peat.

To the extent that an imported activated carbon product is a blend of steam and chemically activated carbons, products containing 50 percent or more steam (or CO2 gas) activated carbons are within this scope, and those containing more than 50 percent chemically activated carbons are outside this scope. This exclusion language regarding blended material applies only to mixtures of steam and chemically activated carbons.

Also excluded from the scope are reactivated carbons. Reactivated carbons are previously used activated carbons that have had adsorbed materials removed from their pore structure after use through the application of heat, steam and/or chemicals.

Also excluded from the scope is activated carbon cloth. Activated carbon cloth is a woven textile fabric made of or containing activated carbon fibers. It is used in masks and filters and clothing of various types where a woven format is required.

Any activated carbon meeting the physical description of subject merchandise provided above that is not expressly excluded from the scope is included within this scope. The products subject to the order are currently classifiable under the Harmonized Tariff Schedule of the United States (“HTSUS”) subheading 3802.10.00. Although the HTSUS subheading is provided for convenience and customs purposes, the written description of the scope of this order is dispositive.

Antidumping Duty Order

On April 16, 2007, in accordance with section 735(d) of the Act, the ITC notified the Department of its final determination, pursuant to section 735(b)(1)(A)(i) of the Act, that an industry in the United States is materially injured by reason of less-than-fair-value imports of subject merchandise from the PRC. Therefore, in accordance with section 736(a)(1) of the Act, the Department will direct U.S. Customs and Border Protection (“CBP”) to assess, upon further instruction by the Department, antidumping duties equal to the amount by which the normal value of the merchandise exceeds the export price (or constructed export price) of the merchandise for all relevant entries of certain activated carbon from the PRC. These antidumping duties will be assessed on all unliquidated entries of certain activated carbon from the PRC entered, or withdrawn from the warehouse, for consumption on or after October 11, 2006, the date on which the Department published its preliminary determination. See Preliminary Determination of Sales at Less Than Fair Value and Postponement of Final Determination: Certain Activated Carbon from the People's Republic of China, 71 FR 59721 (October 11, 2006) (“Preliminary Determination”).

Section 733(d) of the Act states that instructions issued pursuant to an affirmative preliminary determination may not remain in effect for more than four months except where exporters representing a significant proportion of exports of the subject merchandise request the Department to extend that four-month period to no more than six months. At the request of exporters that account for a significant proportion of the PRC exports of the subject merchandise, we extended the four-month period to no more than six months. See Preliminary Determination, 71 FR 59723. In this investigation, the six-month period beginning on the date of the publication of the preliminary determination ends on April 8, 2007. Furthermore, section 737 of the Act states that definitive duties are to begin on the date of publication of the ITC's final injury determination. Therefore, in accordance with section 733(d) of the Act and our practice, we will instruct CBP to terminate the suspension of liquidation and to liquidate, without regard to antidumping duties, unliquidated entries of certain activated carbon from the PRC entered, or withdrawn from warehouse, for consumption on or after April 9, 2007, and before the date of publication of the ITC 's final injury determination in the Federal Register. Suspension of liquidation will resume on the date of publication of the ITC's final injury determination in the Federal Register.

Effective on the date of publication of the ITC's final affirmative injury determination, CBP officers will require, at the same time as importers would normally deposit estimated duties on this merchandise, a cash deposit equal to the estimated weighted-average antidumping duty margins as listed below. The “PRC-wide” rate applies to all exporters of subject merchandise not specifically listed. The weighted-average dumping margins are as follows:

Exporter | Supplier | WA margin
Beijing Pacific Activated Carbon Products Co., Ltd | Alashan Yongtai Activated Carbon Co., Ltd | 67.14
Beijing Pacific Activated Carbon Products Co., Ltd | Changji Hongke Activated Carbon Co., Ltd | 67.14
Beijing Pacific Activated Carbon Products Co., Ltd | Datong Forward Activated Carbon Co., Ltd | 67.14
Beijing Pacific Activated Carbon Products Co., Ltd | Datong Locomotive Coal & Chemicals Co., Ltd | 67.14
Beijing Pacific Activated Carbon Products Co., Ltd | Datong Yunguang Chemicals Plant | 67.14
Beijing Pacific Activated Carbon Products Co., Ltd | Ningxia Guanghua Cherishmet Activated Carbon Co., Ltd | 67.14
Beijing Pacific Activated Carbon Products Co., Ltd | Ningxia Luyuangheng Activated Carbon Co., Ltd | 67.14
Calgon Carbon Tianjin Co., Ltd | Calgon Carbon Tianjin Co., Ltd | 69.54
Calgon Carbon Tianjin Co., Ltd | Datong Carbon Corporation | 69.54
Calgon Carbon Tianjin Co., Ltd | Datong Changtai Activated Carbon Co., Ltd | 69.54
Calgon Carbon Tianjin Co., Ltd | Datong Forward Activated Carbon Co., Ltd | 69.54
Calgon Carbon Tianjin Co., Ltd | Datong Fuping Activated Carbon Co., Ltd | 69.54
Calgon Carbon Tianjin Co., Ltd | Datong Hongtai Activated Carbon Co., Ltd | 69.54
Calgon Carbon Tianjin Co., Ltd | Datong Huanqing Activated Carbon Co., Ltd | 69.54
Calgon Carbon Tianjin Co., Ltd | Datong Huibao Activated Carbon Co., Ltd | 69.54
Calgon Carbon Tianjin Co., Ltd | Datong Kangda Activated Carbon Factory | 69.54
Calgon Carbon Tianjin Co., Ltd | Datong Runmei Activated Carbon Factory | 69.54
Calgon Carbon Tianjin Co., Ltd | Dushanzi Chemical Factory | 69.54
Calgon Carbon Tianjin Co., Ltd | Fangyuan Carbonization Co., Ltd | 69.54
Calgon Carbon Tianjin Co., Ltd | Hongke Activated Carbon Co., Ltd | 69.54
Calgon Carbon Tianjin Co., Ltd | Huairen Jinbei Chemical Co., Ltd | 69.54
Calgon Carbon Tianjin Co., Ltd | Jiaocheng Xinxin Purification Material Co., Ltd | 69.54
Calgon Carbon Tianjin Co., Ltd | Ningxia Guanghua Cherishment Activated Carbon Co., Ltd | 69.54
Calgon Carbon Tianjin Co., Ltd | Ningxia Guanghua A/C Co., Ltd | 69.54
Calgon Carbon Tianjin Co., Ltd | Ningxia Honghua Carbon Industrial Corporation | 69.54
Calgon Carbon Tianjin Co., Ltd | Ningxia Luyuanheng Activated Carbon Co., Ltd | 69.54
Calgon Carbon Tianjin Co., Ltd | Ningxia Pingluo Yaofu Activated Carbon Factory | 69.54
Calgon Carbon Tianjin Co., Ltd | Ningxia Tianfu Activated Carbon Co., Ltd | 69.54
Calgon Carbon Tianjin Co., Ltd | Ningxia Yinchuan Lanqiya Activated Carbon Co., Ltd | 69.54
Calgon Carbon Tianjin Co., Ltd | Nuclear Ningxia Activated Carbon Co., Ltd | 69.54
Calgon Carbon Tianjin Co., Ltd | Pingluo Xuanzhong Activated Carbon Co., Ltd | 69.54
Calgon Carbon Tianjin Co., Ltd | Shanxi Xuanzhong Chemical Industry Co., Ltd | 69.54
Calgon Carbon Tianjin Co., Ltd | Xingtai Coal Chemical Co., Ltd | 69.54
Calgon Carbon Tianjin Co., Ltd | Yuyang Activated Carbon Co., Ltd | 69.54
Datong Juqiang Activated Carbon Co., Ltd | Datong Juqiang Activated Carbon Co., Ltd | 67.14
Datong Locomotive Coal & Chemicals Co., Ltd | Datong Locomotive Coal & Chemicals Co., Ltd | 67.14
Datong Municipal Yunguang Activated Carbon Co., Ltd | Datong Municipal Yunguang Activated Carbon Co., Ltd | 67.14
Datong Yunguang Chemicals Plant | Datong Yunguang Chemicals Plant | 67.14
Hebei Foreign Trade and Advertising Corporation | Da Neng Zheng Da Activated Carbon Co., Ltd | 67.14
Hebei Foreign Trade and Advertising Corporation | Shanxi Bluesky Purification Material Co., Ltd | 67.14
Jacobi Carbons AB | Datong Forward Activated Carbon Co., Ltd | 61.95
Jacobi Carbons AB | Datong Hongtai Activated Carbon Co., Ltd | 61.95
Jacobi Carbons AB | Datong Huibao Activated Carbon Co., Ltd | 61.95
Jacobi Carbons AB | Ningxia Guanghua Activated Carbon Co., Ltd | 61.95
Jacobi Carbons AB | Ningxia Huahui Activated Carbon Company Limited | 61.95
Jilin Bright Future Chemicals Company, Ltd | Shanxi Xinhua Activated Carbon Co., Ltd | 228.11
Jilin Bright Future Chemicals Company, Ltd | Tonghua Bright Future Activated Carbon Plant | 228.11
Jilin Bright Future Chemicals Company, Ltd | Zuoyun Bright Future Activated Carbon Plant | 228.11
Jilin Province Bright Future Industry and Commerce Co., Ltd | Shanxi Xinhua Activated Carbon Co., Ltd. | 228.11
Jilin Province Bright Future Industry and Commerce Co., Ltd | Tonghua Bright Future Activated Carbon Plant | 228.11
Jilin Province Bright Future Industry and Commerce Co., Ltd | Zuoyun Bright Future Activated Carbon Plant | 228.11
Ningxia Guanghua Cherishmet Activated Carbon Co., Ltd | Ningxia Guanghua Cherishmet Activated Carbon Co., Ltd | 67.14
Ningxia Huahui Activated Carbon Co., Ltd | Ningxia Huahui Activated Carbon Co., Ltd | 67.14
Ningxia Mineral & Chemical Limited | Ningxia Baota Activated Carbon Co., Ltd | 67.14
Shanxi DMD Corporation | China Nuclear Ningxia Activated Carbon Plant | 67.14
Shanxi DMD Corporation | Ningxia Guanghua Activated Carbon Co., Ltd | 67.14
Shanxi DMD Corporation | Shanxi Xinhua Chemical Co., Ltd | 67.14
Shanxi DMD Corporation | Tonghua Xinpeng Activated Carbon Factory | 67.14
Shanxi Industry Technology Trading Co., Ltd | Actview Carbon Technology Co., Ltd | 67.14
Shanxi Industry Technology Trading Co., Ltd | Datong Forward Activated Carbon Co., Ltd | 67.14
Shanxi Industry Technology Trading Co., Ltd | Datong Tri-Star & Power Carbon Plant | 67.14
Shanxi Industry Technology Trading Co., Ltd | Fu Yuan Activated Carbon Co., Ltd | 67.14
Shanxi Industry Technology Trading Co., Ltd | Jing Mao (Dongguan) Activated Carbon Co., Ltd | 67.14
Shanxi Industry Technology Trading Co., Ltd | Xi Li Activated Carbon Co., Ltd | 67.14
Shanxi Newtime Co., Ltd | Datong Forward Activated Carbon Co., Ltd | 67.14
Shanxi Newtime Co., Ltd | Ningxia Guanghua Chemical Activated Carbon Co., Ltd | 67.14
Shanxi Newtime Co., Ltd | Ningxia Tianfu Activated Carbon Co., Ltd | 67.14
Shanxi Qixian Foreign Trade Corporation | Datong Locomotive Coal & Chemicals Co., Ltd | 67.14
Shanxi Qixian Foreign Trade Corporation | Datong Tianzhao Activated Carbon Co., Ltd | 67.14
Shanxi Qixian Foreign Trade Corporation | Ningxia Huinong Xingsheng Activated Carbon Co., Ltd | 67.14
Shanxi Qixian Foreign Trade Corporation | Ningxia Yirong Alloy Iron Co., Ltd | 67.14
Shanxi Qixian Foreign Trade Corporation | Ninxia Tongfu Coking Co., Ltd | 67.14
Shanxi Qixian Foreign Trade Corporation | Shanxi Xiaoyi Huanyu Chemicals Co., Ltd | 67.14
Shanxi Sincere Industrial Co., Ltd | Datong Guanghua Activated Co., Ltd | 67.14
Shanxi Sincere Industrial Co., Ltd | Ningxia Guanghua-Cherishmet Activated Carbon Co., Ltd | 67.14
Shanxi Sincere Industrial Co., Ltd | Ningxia Pingluo County YaoFu Activated Carbon Factory | 67.14
Shanxi Xuanzhong Chemical Industry Co., Ltd | Ningxia Pingluo Xuanzhong Activated Carbon Co., Ltd | 67.14
Tangshan Solid Carbon Co., Ltd | Datong Zuoyun Biyun Activated Carbon Co., Ltd | 67.14
Tangshan Solid Carbon Co., Ltd | Ningxia Guanghua Activated Carbon Co., Ltd | 67.14
Tangshan Solid Carbon Co., Ltd | Ningxia Xingsheng Coal and Active Carbon Co., Ltd | 67.14
Tangshan Solid Carbon Co., Ltd | Pingluo Yu Yang Activated Carbon Co., Ltd | 67.14
Tianjin Maijin Industries Co., Ltd | Hegongye Ninxia Activated Carbon Factory | 67.14
Tianjin Maijin Industries Co., Ltd | Ningxia Pingluo County YaoFu Activated Carbon Plant | 67.14
Tianjin Maijin Industries Co., Ltd | Yinchuan Lanqiya Activated Carbon Co., Ltd | 67.14
United Manufacturing International (Beijing) Ltd | Datong Fu Ping Activated Carbon Co., Ltd | 67.14
United Manufacturing International (Beijing) Ltd | Datong Locomotive Coal & Chemical Co. Ltd | 67.14
United Manufacturing International (Beijing) Ltd | Xinhua Chemical Company Ltd | 67.14
Xi'an Shuntong International Trade & Industrials Co., Ltd | DaTong Tri-Star & Power Carbon Plant | 67.14
Xi'an Shuntong International Trade & Industrials Co., Ltd | Ningxia Huahui Activated Carbon Company Limited | 67.14
PRC-Wide Rate |  | 228.11

This notice constitutes the antidumping duty order with respect to certain activated carbon from the PRC pursuant to section 736(a) of the Act. Interested parties may contact the Department's Central Records Unit, Room B-099 of the main Commerce building, for copies of an updated list of antidumping duty orders currently in effect.

This order is published in accordance with section 736(a) of the Act and 19 CFR 351.211.

Dated: April 20, 2007.
Joseph A. Spetrini,
Deputy Assistant Secretary for Import Administration.

[FR Doc. E7-8122 Filed 4-26-07; 8:45 am]

BILLING CODE 3510-DS-P